DEPARTMENT OF HEALTH AND HUMAN SERVICES

Centers for Disease Control and Prevention

[Docket No. CDC-2021-0098]

Advisory Committee on Immunization Practices (ACIP); Amended Notice of Meeting

AGENCY: Centers for Disease Control and Prevention, Department of Health and Human Services (HHS).

ACTION: Notice.

SUMMARY: In accordance with the Federal Advisory Committee Act, the Centers for Disease Control and Prevention (CDC), announces the following meeting of the Advisory Committee on Immunization Practices (ACIP). This meeting is open to the public. Time will be available for public comment. The meeting will be webcast live via the World Wide Web; for more information on ACIP please visit the ACIP website: http://www.cdc.gov/vaccines/acip/index.html.

DATES: The meeting will be held on October 20-21, 2021, from 10:00 a.m. to 5:00 p.m., EDT (times subject to change). The docket is currently open to receive written comments. Written comments must be received on or before October 21, 2021.

SUPPLEMENTARY INFORMATION: Notice is hereby given of a change in the meeting of the Advisory Committee on Immunization Practices (ACIP); October 20, 2021, 10:00 a.m.-5:00 p.m., EDT, and October 21, 2021, 10:00 a.m.-5:00 p.m., EDT (times subject to change), in the original FRN.

The virtual meeting was published in the Federal Register on Wednesday, September 22, 2021, Volume 86, Number 181, pages 52683-52684.

The virtual meeting is being amended to change the date the docket was opened to receive written public comments, and updates to the Matters To Be Considered and Written Public Comment sections of the notice and should read as follows:

DATES: The meeting will be held on October 20-21, 2021, from 10:00 a.m. to 5:00 p.m., EDT (times subject to change). The public may submit written comments from October 7, 2021 through October 21, 2021.

Matters To Be Considered: The agenda will include discussions on herpes zoster vaccines, influenza vaccines, pneumococcal vaccine, and COVID-19 vaccines. Recommendation votes on herpes zoster vaccine, pneumococcal vaccine, and COVID-19 vaccines are scheduled. No Vaccines for Children (VFC) votes are scheduled. Agenda items are subject to change as priorities dictate. For more information on ACIP please visit the ACIP website: http://www.cdc.gov/vaccines/acip/index.html.

Written Public Comment: The docket will be opened to receive written comments on October 7, 2021. Written comments must be received on or before October 21, 2021.

The virtual meeting is open to the public.

FOR FURTHER INFORMATION CONTACT: Stephanie Thomas, ACIP Committee Management Specialist, Centers for Disease Control and Prevention, National Center for Immunization and Respiratory Diseases, 1600 Clifton Road NE, MS-H24-8, Atlanta, GA 30329-4027; Telephone: 404-639-8367; Email: ACIP@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-24320 Filed 11-5-21; 8:45 am]

BILLING CODE 4163-18-P